DEPARTMENT OF ENERGY

Federal Energy Regulatory Commission

[Docket Nos. EC05-124-000, et al.]

Kumeyaay Wind LLC, et al.; Electric Rate and Corporate Filings

August 17, 2005.

The following filings have been made with the Commission. The filings are listed in ascending order according within each docket classification.

1. Kumeyaay Wind LLC and TIFD VIII-W, Inc.

[Docket No. EC05-124-000]

Take notice that on August 11, 2005, Kumeyaay Wind LLC (Kumeyaay) and TIFD VIII-W, Inc. (jointly, Applicants) filed with the Commission an application pursuant to section 203 of the Federal Power Act for authorization to make changes in the ownership structure of and for the sale of an upstream ownership interest in Kumeyaay's jurisdictional facilities. Applicants state that Kumeyaay is developing a 50 MW wind farm along the Tecate Divide, within the In-Ko-Pah Mountains on the Campo Indian Reservation in eastern San Diego, California (the Project). Applicants further state that the jurisdictional facilities will consist of interconnection facilities, a tariff for the wholesale sale of energy, capacity and ancillary services at market-based rates and a power purchase agreement and associated books and records. Applicants indicate that the restructuring of the ownership of Kumeyaay and the transfer of an upstream ownership interest will result from the sale of member interests in Applicant's parent company to one or more entities that will contribute equity to the Project and become passive investors.

Comment Date: 5 p.m. eastern time on September 1, 2005.

2. Sithe Energies, Inc., Sithe Energies U.S.A., Inc., Sterling Power, Ltd., Sterling Power Partners, L.P., Seneca Power Corporation, Seneca Power Partners, L.P., and Alliance Energy Group LLC

[Docket No. EC05-126-000]

Take notice that on August 15, 2005, Sithe Energies, Inc. (Sithe); Sithe Energies U.S.A., Inc. (Sithe U.S.A.); Seneca Power Corporation, Seneca Power Partners, L.P. (the Seneca Partnership); Sterling Power, Ltd., Sterling Power Partners, L.P. (the Sterling Partnership); and Alliance Energy Group LLC (Alliance Energy) (collectively, the Applicants) submitted an application pursuant to section 203 of the Federal Power Act for authorization of a disposition of jurisdictional facilities whereby Alliance Energy would acquire all of the interests in the Seneca Partnership and Sterling Partnership directly and indirectly owned by Sithe and Sithe U.S.A. (the Transaction). The Applicants state that the transaction would be accomplished pursuant to two Purchase and Sale Agreements between Alliance Energy and Sithe and Alliance Energy and Sithe U.S.A.

Comment Date: 5 p.m. eastern time on September 6, 2005.

3. United States Department of Energy, Western Area Power Administration

[Docket No. EF05-5091-000]

Take notice that on August 11, 2005, the Deputy Secretary of the Department of Energy, confirmed and approved Rate Order No. WAPA-120 and Rate Schedule BCP-F7, placing the electric service ratesetting formula and fiscal year 2006 base change and rates from the Boulder Canyon Project of the Western Area Power Administration into effect on an interim basis. Rate Schedule BCB-F7 will be placed into effect on an interim basis on the first day of the first full billing period beginning on or after October 1, 2005, and will be in effect until the Commission confirms, approves, and places the rate schedule in effect on a final basis through September 30, 2010, or until the rate schedule is superseded.

Comment Date: 5 p.m. eastern time on September 6, 2005.

4. PJM Interconnection, L.L.C.

[Docket No. ER04-776-005]

Take notice that on April 15, 2005, Kentucky Public Service Commission, pursuant to section 18.17.4 of the Amended and Restated Operating Agreement of PJM Interconnection, L.L.C. (PJM) and the Commission's order in PJM Interconnection, L.L.C., 107 FERC ¶ 61,322 (2004), submits for filing the State Certification in which the Kentucky Public Service Commission makes certain representations and warranties regarding its legal obligations and those of its authorized representatives with respect to confidential information that may be disclosed by PJM and/or the PJM Market Monitor pursuant to section 18.17.4 of the Operating Agreement.

Comment Date: 5 p.m. eastern time on September 6, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4607 Filed 8-22-05; 8:45 am]

BILLING CODE 6717-01-P